ENVIRONMENTAL PROTECTION AGENCY

[FRL OP-OFA-092]

Environmental Impact Statements; Notice of Availability

Responsible Agency: Office of Federal Activities, General Information 202-564-5632 or https://www.epa.gov/nepa.

Weekly receipt of Environmental Impact Statements (EIS)

Filed October 16, 2023 10 a.m. EST Through October 23, 2023 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230143, Draft Supplement, FERC, CA, South Feather Power Project, Comment Period Ends: 12/18/2023, Contact: Office of External Affairs 866-208-3372.

EIS No. 20230144, Final, HCIDLA, CA, One San Pedro Specific Plan Final EIR/EIS, Review Period Ends: 11/27/2023, Contact: Jinderpal Bhandal 818-601-1169.

EIS No. 20230145, Final, BOEM, CA, Programmatic Environmental Impact Statement for Oil and Gas Decommissioning Activities on the Pacific Outer Continental Shelf, Review Period Ends: 11/28/2023, Contact: Richard Yarde 805-384-6383.

EIS No. 20230146, Draft Supplement, BR, CO, Near-term Colorado River Operations Revised Draft Supplemental EIS, Comment Period Ends: 12/11/2023, Contact: Genevieve Johnson 602-228-4158.

EIS No. 20230147, Final, BLM, NV, Goldrush Mine Project, Review Period Ends: 11/27/2023, Contact: Scott Distel 775-635-4093.

EIS No. 20230148, Draft Supplement, GSA, MN, Land Port of Entry Modernization and Expansion Project at International Falls, MN, Comment Period Ends: 12/11/2023, Contact: Michael Gonczar 312-810-2326.

Amended Notice

EIS No. 20230112, Draft Supplement, NRC, FL, Site-Specific Environmental Impact Statement for License Renewal of Nuclear Plants Regarding Subsequent License Renewal for Turkey Point Nuclear Generating Unit Nos. 3 and 4, NUREG-1437, Supplement 5a, Second Renewal, Comment Period Ends: 11/07/2023, Contact: Lance J Rakovan 301-415-2589.

Revision to FR Notice Published 09/08/2023; Extending the Comment Period from 10/23/2023 to 11/07/2023.

EIS No. 20230116, Draft Supplement, BLM, USFWS, AK, Coastal Plain Oil and Gas Leasing Program, Comment Period Ends: 11/07/2023, Contact: Serena Sweet 907-271-4543.

Revision to FR Notice Published 09/08/2023; Extending the Comment Period from 10/23/2023 to 11/07/2023.

Dated: October 23, 2023.
Nancy Abrams,
Associate Director, Office of Federal Activities.

[FR Doc. 2023-23759 Filed 10-26-23; 8:45 am]

BILLING CODE 6560-50-P